SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: March 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Water Source Approval—Issued Under 18 CFR 806.22(f)

1. Cabot Oil & Gas Corporation; Pad ID: BenediktK P1; ABR-202102003; Bridgewater Township, Susquehanna County, Pa.; Consumptive Use of Up to 5.0000 mgd; Approval Date: March 1, 2021.

2. SWN Production Company, LLC; Pad ID: WY-18 WEST PAD; ABR-201510008.R1; Eaton and Mehoopany Townships, Wyoming County, Pa.; Consumptive Use of Up to 4.9990 mgd; Approval Date: March 1, 2021.

3. SWN Production Company, LLC; Pad ID: GU-X SEYMOUR PAD; ABR-201512010.R1; Stevens Township, Bradford County; and Rush Township, Susquehanna County; Pa.; Consumptive Use of Up to 4.9990 mgd; Approval Date: March 1, 2021.

4. SWN Production Company, LLC; Pad ID: Hayes Well Pad; ABR-201202034.R2; Silver Lake Township, Bradford County, Pa.; Consumptive Use of Up to 4.0000 mgd; Approval Date: March 1, 2021.

5. SWN Production Company, LLC; Pad ID: Demento Pad; ABR-201102036.R2; Silver Lake Township, Bradford County, Pa.; Consumptive Use of Up to 4.9900 mgd; Approval Date: March 2, 2021.

6. SWN Production Company, LLC; Pad ID: Knapik Well Pad; ABR-201102033.R2; Liberty Township, Susquehanna County, Pa.; Consumptive Use of Up to 4.0000 mgd; Approval Date: March 2, 2021.

7. BKV Operating, LLC; Pad ID: Yarasavage Well Pad; ABR-201102021.R2; Washington Township, Wyoming County, Pa.; Consumptive Use of Up to 5.0000 mgd; Approval Date: March 2, 2021.

8. Repsol Oil & Gas USA, LLC; Pad ID: HARTNETT (05 097) R; ABR-201010045.R2; Orwell and Warren Townships, Bradford County, Pa.; Consumptive Use of Up to 6.0000 mgd; Approval Date: March 4, 2021.

9. Rockdale Marcellus, LLC; Pad ID: Guillaume 715; ABR-201011002.R2; Liberty Township, Tioga County, Pa.; Consumptive Use of Up to 4.9900 mgd; Approval Date: March 4, 2021.

10. SWN Production Company, LLC; Pad ID: Herman Well Pad; ABR-201102035.R2; Franklin Township, Susquehanna County, Pa.; Consumptive Use of Up to 4.0000 mgd; Approval Date: March 4, 2021.

11. Repsol Oil & Gas USA, LLC; Pad ID: ANTISDEL (05 036) M; ABR-201009016.R2; Warren Township, Bradford County, Pa.; Consumptive Use of Up to 6.0000 mgd; Approval Date: March 8, 2021.

12. Repsol Oil & Gas USA, LLC; Pad ID: WATKINS (03 052) M; ABR-201011048.R2; Columbia Township, Bradford County, Pa.; Consumptive Use of Up to 6.0000 mgd; Approval Date: March 9, 2021.

13. Seneca Resources Company, LLC; Pad ID: Peffer-Strong 483; ABR-202103001; Sullivan Township, Tioga County, Pa.; Consumptive Use of Up to 4.0000 mgd; Approval Date: March 9, 2021.

14. SWN Production Company, LLC; Pad ID: Sheldon Pad; ABR-201102028.R2; Jackson Township, Susquehanna County, Pa.; Consumptive Use of Up to 4.9900 mgd; Approval Date: March 12, 2021.

15. VEC Energy, LLC; Pad ID: Brookfield #1 Pad; ABR-201601003.R1; Brookfield Township, Bradford County, Pa.; Consumptive Use of Up to 6.0000 mgd; Approval Date: March 12, 2021.

16. Chesapeake Appalachia, L.L.C.; Pad ID: DPH; ABR-201103011.R2; Windham Township, Wyoming County, Pa.; Consumptive Use of Up to 7.5000 mgd; Approval Date: March 15, 2021.

17. Chesapeake Appalachia, L.L.C.; Pad ID: Dziuba; ABR-201103012.R2; Tuscarora Township, Bradford County, Pa.; Consumptive Use of Up to 7.5000 mgd; Approval Date: March 15, 2021.

18. Cabot Oil & Gas Corporation; Pad ID: HawleyJ P1; ABR-201103009.R2; Forest Lake Township, Susquehanna County, Pa.; Consumptive Use of Up to 5.0000 mgd; Approval Date: March 15, 2021.

19. Cabot Oil & Gas Corporation; Pad ID: Ely P3; ABR-20080709.R2; Dimock Township, Susquehanna County, Pa.; Consumptive Use of Up to 5.0000 mgd; Approval Date: March 16, 2021.

20. Cabot Oil & Gas Corporation; Pad ID: Teel P3; ABR-20080702.R2; Springville Township, Susquehanna County, Pa.; Consumptive Use of Up to 5.0000 mgd; Approval Date: March 16, 2021.

21. Cabot Oil & Gas Corporation; Pad ID: HeitzenroderA P2; ABR-202103002.R2; Springville Township, Susquehanna County, Pa.; Consumptive Use of Up to 5.0000 mgd; Approval Date: March 15, 2021.

22. Chief Oil & Gas, LLC; Pad ID: W & L Wilson Drilling Pad #1; ABR-201103014.R2; Lemon Township, Wyoming County, Pa.; Consumptive Use of Up to 2.0000 mgd; Approval Date: March 16, 2021.

23. Chesapeake Appalachia, L.L.C.; Pad ID: Acton; ABR-201103013.R2; Rome Township, Bradford County, Pa.; Consumptive Use of Up to 7.5000 mgd; Approval Date: March 16, 2021.

24. Rockdale Marcellus, LLC; Pad ID: Neal 375; ABR-201012053.R2; Union Township, Tioga County, Pa.; Consumptive Use of Up to 4.9900 mgd; Approval Date: March 16, 2021.

25. Repsol Oil & Gas USA, LLC; Pad ID: DEWING (05 100) R; ABR-201102020.R2; Warren Township, Bradford County, Pa.; Consumptive Use of Up to 6.0000 mgd; Approval Date: March 16, 2021.

26. Seneca Resources Company, LLC; Pad ID: Cole 495; ABR-201102016.R2; Richmond Township, Tioga County, Pa.; Consumptive Use of Up to 4.0000 mgd; Approval Date: March 16, 2021.

27. Chief Oil & Gas, LLC; Pad ID: NELSON UNIT PAD B; ABR-202103005; Forks Township, Sullivan County, Pa.; Consumptive Use of Up to 2.5000 mgd; Approval Date: March 16, 2021.

28. Chesapeake Appalachia, L.L.C.; Pad ID: Burke; ABR-201103019.R2; Wilmot Township, Bradford County, Pa.; Consumptive Use of Up to 7.5000 mgd; Approval Date: March 18, 2021.

29. Cabot Oil & Gas Corporation; Pad ID: KrisuleviczV P1; ABR-201102027.R2; Auburn Township, Susquehanna County, Pa.; Consumptive Use of Up to 5.0000 mgd; Approval Date: March 18, 2021.

30. Rockdale Marcellus, LLC; Pad ID: Marshall Brothers Inc. 731; ABR-201012057.R2; Jackson Township, Lycoming County, Pa.; Consumptive Use of Up to 4.9900 mgd; Approval Date: March 18, 2021.

31. Cabot Oil & Gas Corporation; Pad ID: ZickJ P1; ABR-201103020.R2; Lenox Township, Susquehanna County, Pa.; Consumptive Use of Up to 5.0000 mgd; Approval Date: March 18, 2021.

32. Seneca Resources Company, LLC; Pad ID: Wilson 283; ABR-201012048.R2; Charleston Township, Tioga County, Pa.; Consumptive Use of Up to 4.0000 mgd; Approval Date: March 19, 2021.

33. Chief Oil & Gas, LLC; Pad ID: Curtin Drilling Pad #1; ABR-201012034.R2; Albany Township, Bradford County; and Cherry Township, Sullivan County; Pa.; Consumptive Use of Up to 2.0000 mgd; Approval Date: March 22, 2021.

34. Chesapeake Appalachia, L.L.C.; Pad ID: Jones Pad; ABR-201103022.R2; Standing Stone Township, Bradford County, Pa.; Consumptive Use of Up to 7.5000 mgd; Approval Date: March 22, 2021.

35. Seneca Resources Company, LLC; Pad ID: COP Pad O; ABR-201103030.R2; Lawrence Township, Clearfield County, Pa.; Consumptive Use of Up to 4.9990 mgd; Approval Date: March 22, 2021.

36. Seneca Resources Company, LLC; Pad ID: PHC Pad BB; ABR-201103028.R2; Lawrence Township, Clearfield County, Pa.; Consumptive Use of Up to 4.9990 mgd; Approval Date: March 22, 2021.

37. Seneca Resources Company, LLC; Pad ID: PPHC Pad B; ABR-201103023.R2; Lawrence Township, Clearfield County, Pa.; Consumptive Use of Up to 4.9990 mgd; Approval Date: March 22, 2021.

38. EOG Resources, Inc.; Pad ID: JANOWSKY 1H; ABR-201008054.R2; Ridgebury Township, Bradford County, Pa.; Consumptive Use of Up to 3.0000 mgd; Approval Date: March 22, 2021.

39. EOG Resources, Inc.; Pad ID: MELCHIONNE 1H; ABR-201008087.R2; Ridgebury Township, Bradford County, Pa.; Consumptive Use of Up to 3.0000 mgd; Approval Date: March 22, 2021.

40. EOG Resources, Inc.; Pad ID: OBERKAMPER Pad; ABR-201009004.R2; Springfield Township, Bradford County, Pa.; Consumptive Use of Up to 3.0000 mgd; Approval Date: March 22, 2021.

41. EOG Resources, Inc.; Pad ID: Rightmire 1H; ABR-201008082.R2; Ridgebury Township, Bradford County, Pa.; Consumptive Use of Up to 3.0000 mgd; Approval Date: March 22, 2021.

42. EOG Resources, Inc.; Pad ID: STURDEVANT 1H; ABR-201008155.R2; Ridgebury Township, Bradford County, Pa.; Consumptive Use of Up to 3.0000 mgd; Approval Date: March 22, 2021.

43. EOG Resources, Inc.; Pad ID: WENGER Pad; ABR-201008118.R2; Springfield Township, Bradford County, Pa.; Consumptive Use of Up to 3.0000 mgd; Approval Date: March 22, 2021.

44. EOG Resources, Inc.; Pad ID: SEAMAN 1H; ABR-201008091.R2; Ridgebury Township, Bradford County, Pa.; Consumptive Use of Up to 3.0000 mgd; Approval Date: March 22, 2021.

45. EOG Resources, Inc.; Pad ID: GROSS 1H Pad; ABR-201008098.R2; Springfield Township, Bradford County, Pa.; Consumptive Use of Up to 3.0000 mgd; Approval Date: March 22, 2021.

46. Chesapeake Appalachia, L.L.C.; Pad ID: Shoemaker-Saxe; ABR-202103004; Colley Township, Sullivan County, Pa.; Consumptive Use of Up to 7.5000 mgd; Approval Date: March 22, 2021.

47. Chief Oil & Gas, LLC; Pad ID: Kerrick Drilling Pad #1; ABR-201103040.R2; Asylum Township, Bradford County, Pa.; Consumptive Use of Up to 2.0000 mgd; Approval Date: March 24, 2021.

48. Seneca Resources Company, LLC; Pad ID: Knowlton 303; ABR-201101077.R2; Charleston Township, Tioga County, Pa.; Consumptive Use of Up to 4.0000 mgd; Approval Date: March 24, 2021.

49. Seneca Resources Company, LLC; Pad ID: MY TB INV LLC 891; ABR-201102010.R2; Deerfield Township, Tioga County, Pa.; Consumptive Use of Up to 4.0000 mgd; Approval Date: March 24, 2021.

50. Seneca Resources Company, LLC; Pad ID: Butler 853; ABR-201103037.R2; Middlebury Township, Tioga County, Pa.; Consumptive Use of Up to 4.0000 mgd; Approval Date: March 24, 2021.

51. Diversified Production, LLC; Pad ID: Phoenix S; ABR-201012009.R2; Duncan Township, Susquehanna County, Pa.; Consumptive Use of Up to 4.0000 mgd; Approval Date: March 24, 2021.

52. Diversified Production, LLC; Pad ID: Phoenix R; ABR-201011057.R2; Duncan Township, Susquehanna County, Pa.; Consumptive Use of Up to 4.0000 mgd; Approval Date: March 24, 2021.

53. Chesapeake Appalachia, L.L.C.; Pad ID: Sarah; ABR-201103041.R2; Athens Township, Bradford County, Pa.; Consumptive Use of Up to 7.5000 mgd; Approval Date: March 25, 2021.

54. Seneca Resources Company, LLC; Pad ID: Weiner 882; ABR-201103045.R2; Farmington Township, Tioga County, Pa.; Consumptive Use of Up to 4.0000 mgd; Approval Date: March 25, 2021.

55. Beech Resources, LLC.; Pad ID: ISA Well Site; ABR-202103003; Lycoming Township, Lycoming County, Pa.; Consumptive Use of Up to 3.0000 mgd; Approval Date: March 25, 2021.

56. Pennsylvania General Energy Company, L.L.C.; Pad ID: COP Tract 726 Pad B; ABR-201706002.1; Plunkett's Creek Township, Lycoming County, Pa.; Modification of Consumptive Use of Up to 4.5000 mgd; Approval Date: March 26, 2021.

57. ARD Operating, LLC; Pad ID: Cynthia M. Knispel Pad A; ABR-201103038.R2; Cogan House Township, Lycoming County, Pa.; Consumptive Use of Up to 7.5000 mgd; Approval Date: March 26, 2021.

58. Rockdale Marcellus, LLC; Pad ID: Wesneski 724; ABR-201007017.R2; Union Township, Tioga County, Pa.; Consumptive Use of Up to 4.9900 mgd; Approval Date: March 29, 2021.

59. Chesapeake Appalachia, L.L.C.; Pad ID: Barclay; ABR-201103044.R2; Franklin Township, Bradford County, Pa.; Consumptive Use of Up to 7.5000 mgd; Approval Date: March 29, 2021.

60. Chesapeake Appalachia, L.L.C.; Pad ID: Hi-Lev; ABR-201103051.R2; Troy Township, Bradford County, Pa.; Consumptive Use of Up to 7.5000 mgd; Approval Date: March 29, 2021.

61. Seneca Resources Company, LLC; Pad ID: DCNR 595 PAD C; ABR-201103047.R2; Bloss Township, Tioga County, Pa.; Consumptive Use of Up to 4.0000 mgd; Approval Date: March 29, 2021.

Authority: Pub. L. 91-575, 84 Stat. 1509 et seq., 18 CFR parts 806, 807, and 808.

Dated: April 9, 2021.
Jason E. Oyler,
General Counsel and Secretary to the Commission.

[FR Doc. 2021-07655 Filed 4-13-21; 8:45 am]

BILLING CODE 7040-01-P